SECURITIES AND EXCHANGE COMMISSION

[Release No. 34-102541]

Notice of Designation of Entity To Maintain and Operate the Lost and Stolen Securities Program

AGENCY: Securities and Exchange Commission.

ACTION: Notice of designation.

SUMMARY: The Securities and Exchange Commission has designated an entity to maintain and operate the Lost and Stolen Securities Program.

FOR FURTHER INFORMATION CONTACT: Bryant Eng, Special Counsel; Cate Whiting, Senior Counsel; Kevin Schopp, Senior Special Counsel; Moshe Rothman, Assistant Director; Office of Clearance and Settlement, Division of Trading and Markets, (202) 551-5500, tradingandmarkets@sec.gov.

SUPPLEMENTARY INFORMATION: The Securities and Exchange Commission (“Commission”) has designated Accenture Federal Services LLC (“Accenture”) to maintain and operate the Lost and Stolen Securities Program (“LSSP”) on the Commission's behalf, effective as of January 1, 2025.

The Commission established the LSSP in 1977, pursuant to Section 17(f)(1) of the Securities Exchange Act of 1934 ¹ (the “Exchange Act”) and Rule 17f-1 thereunder.² Section 17(f)(1) and Rule 17f-1 require certain financial institutions, including banks, clearing agencies, exchanges, broker-dealers, and transfer agents (“Reporting Institutions”), to (1) report securities certificates that they discover to be missing, lost, stolen, or counterfeit ³ and (2) make inquiries about securities certificates that come into their possession to determine if they are missing, lost, stolen, or counterfeit. Reporting Institutions must make these reports and inquiries to the Commission or other person designated by the Commission.

¹ 15 U.S.C. 78q(f)(1).

² 17 CFR 240.17f-1.

³ Securities certificate means any physical instrument that represents or purports to represent ownership in a security that was printed by or on behalf of the issuer thereof and shall include any such instrument that is or was: printed but not issued; issued and outstanding, including treasury securities; cancelled; and counterfeit or reasonably believed to be counterfeit. 17 CFR 240.17f-1(a)(6).

In 1977, pursuant to Section 17(f)(1), the Commission designated an entity to maintain and operate the LSSP on the Commission's behalf.⁴ That designee and its successors maintained and operated the LSSP on the Commission's behalf through the end of 2024. On July 21, 2023, the Commission issued a solicitation for services in support of the LSSP.⁵ Pursuant to that solicitation, the Commission selected and entered into a contract with Accenture to maintain and operate the LSSP.⁶

⁴ See Designation of Entity to Receive Reports and Inquiries, Exchange Act Release No. 13538, 42 FR 26495 (May 24, 1977).

⁵ See Lost and Stolen Securities Program (LSSP), https://sam.gov/opp/5616f351e4dd41d09d19d7accf511471/view.

⁶ See Lost and Stolen Securities Program (LSSP), Award Notices, https://sam.gov/opp/5616f351e4dd41d09d19d7accf511471/view.

Accordingly, the Commission has designated Accenture to maintain and operate the LSSP pursuant to Section 17(f)(1) of the Act ⁷ and Rule 17f-1 thereunder,⁸ effective as of January 1, 2025. This designation supersedes all previous designations.

⁷ 15 U.S.C. 78q(f)(1).

⁸ 17 CFR 240.17f-1.

By the Commission.
Dated: March 7, 2025.
J. Matthew DeLesDernier,
Deputy Secretary.

[FR Doc. 2025-03972 Filed 3-12-25; 8:45 am]

BILLING CODE 8011-01-P